DEPARTMENT OF COMMERCE

National Telecommunications and Information Administration

[Docket No. 000410097-2017-04]

Public Telecommunications Facilities Program: Notice of Funds Available

AGENCY: National Telecommunications and Information Administration (NTIA), Commerce.

ACTION: Notice of availability of funds.

SUMMARY: On November 20, 2001, the National Telecommunications and Information Administration (NTIA) announced the Notice of Closing Date and Solicitation of Applications for the Public Telecommunications Facilities Program (PTFP) At the time the Notice of Closing Date and Solicitation of Applications appeared in the Federal Register, PTFP had not been appropriated funds through the fiscal year. NTIA is publishing this Notice of Availability of Funds to announce the funds available for fiscal year 2002 PTFP grants.

ADDRESSES: To obtain an application package, submit completed applications, or send any other correspondence, write to: NTIA/PTFP, Room H-4625, U.S. Department of Commerce, 1401 Constitution Avenue, NW, Washington, DC 20230.

FOR FURTHER INFORMATION CONTACT: William Cooperman, Director, Public Broadcasting Division, telephone: (202) 482-5802; fax: (202) 482-2156. Materials needed to complete an application can be obtained electronically via PTFP's Web site at http://www.ntia.doc.gov/ptfp.

SUPPLEMENTARY INFORMATION:

Authority: Departments of Commerce, Justice, and State, the Judiciary, and Related Agencies Appropriations Act, 2002, Public Law 107-77.

Funding Availability

On November 20, 2001, the National Telecommunications and Information Administration (NTIA) announced the Notice of Closing Date and Solicitation of Applications for the Public Telecommunications Facilities Program (PTFP)(66 FR 58302). At the time the Notice of Closing Date and Solicitation of Applications appeared in the Federal Register, PTFP had not been appropriated funds through the fiscal year. The National Telecommunications and Information Administration (NTIA), U.S. Department of Commerce announces that approximately $25 million is available for award to applicants submitting applications in response to the Notice of Closing Date published November 20, 2001. Pursuant to P.L. 107-77, the Departments of Commerce, Justice, and State, the Judiciary, and Related Agencies Appropriations Act, 2002, the Congress appropriated $41.1 million for Public Telecommunications Facilities Program grants. NTIA has allocated approximately $16 million from the $41.1 million for funding additional phases of multi-year projects initially funded in FY 2000 and FY 2001.

Dr. Bernadette McGuire-Rivera,
Associate Administrator, Office of Telecommunications and Information Applications.

[FR Doc. 02-2089 Filed 1-28-02; 8:45 am]

BILLING CODE 3510-60-P